ENVIRONMENTAL PROTECTION AGENCY

[FRL-6898-9]

Notice of Proposed Agreement for Recovery of Past Response Costs to the Comprehensive Environmental Response, Compensation and Liability Act (“CERCLA”), Ridgeway Logging Site, Sweet Home, OR

AGENCY: Environmental Protection Agency.

ACTION: Notice; Request for Comment.

SUMMARY: In accordance with Section 122(h)(1) of the Comprehensive Environmental Response, Compensation and Liability Act (“CERCLA”) 42 U.S.C. 9622(h)(1), notice is hereby given of a proposed agreement for recovery of past response costs with Mrs. Betty Selander, the owner of the real property upon which the Ridgeway Logging Site, Sweet Home, Oregon, is located. This agreement proposes to recover a portion of EPA's past response costs in response to the release or threatened release of hazardous substances at the Ridgeway Logging Site. EPA undertook response actions at the Site pursuant to Section 104 of CERCLA, 42 U.S.C. 9604. In performing this response action, EPA incurred response costs at or in connection with the Site. The agreement requires Mrs. Betty Selander (hereinafter “Settling Party”) to pay a total of $70,280.00 to the Hazardous Substance Superfund. The Settling Party consents to and will not contest the Environmental Protection Agency's (EPA's) jurisdiction to enter into this Agreement or to implement or enforce its terms. EPA and the Settling Party desire to resolve the Settling Party's alleged civil liability for Past Response Costs without litigation and without the admission or adjudication of any issue of fact or law. EPA will consider public comments on the proposed Agreement for Recovery of Past Response Costs for thirty days. EPA may withdraw from or modify this proposed agreement should such comments disclose facts or considerations which indicate this proposed agreement is inappropriate, improper, or inadequate.

DATES: Written comments must be provided on or before December 11, 2000.

ADDRESSES: Comments should be addressed to Docket Clerk, U.S. Environmental Protection Agency, Region 10, ORC-158, 1200 Sixth Avenue, Seattle, Washington 98101, and should refer to In Re Ridgeway Logging Site, Sweet Home, Oregon, U.S. EPA Docket No. CERCLA-10-2000-0142.

FOR FURTHER INFORMATION CONTACT: Dean Ingemansen, Office of Regional Counsel (ORC-158), 1200 Sixth Avenue, Seattle, Washington 98101, (206) 553-1744.

SUPPLEMENTARY INFORMATION:

Authority: The Comprehensive Environmental Response, Compensation and Liability Act of 1980, as amended (“CERCLA”), 42 U.S.C. 9622(h)(i).

Chuck Findley,
Acting Regional Administrator, Region 10.

[FR Doc. 00-28713 Filed 11-8-00; 8:45 am]

BILLING CODE 6560-50-P